FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association.

The applications listed below are available for immediate inspection at the Federal Reserve Bank indicated. The applications also will be available for inspection at the offices of the Board of Governors. Interested persons may express their views in writing on whether the proposed transaction complies with the standards enumerated in the HOLA (12 U.S.C. 1467a(e)).

Unless otherwise noted, comments regarding each of these applications must be received at the Reserve Bank indicated or the offices of the Board of Governors not later than October 22, 2019.

A. Federal Reserve Bank of Cleveland (Nadine Wallman, Vice President) 1455 East Sixth Street, Cleveland, Ohio 44101-2566. Comments can also be sent electronically to Comments.applications@clev.frb.org:

1. CF Mutual Holding Company, Cincinnati, Ohio; a mutual savings and loan holding company that indirectly controls Cincinnati Federal, Cincinnati, Ohio, to complete a second step conversion, converting from the mutual to the stock form. As part of the conversion, CF Mutual Holding Company and Cincinnati Bancorp, Cincinnati, Ohio, an existing mid-tier savings and loan holding company controlled by CF Mutual Holding Company, will cease to exist and Cincinnati Federal will become a wholly-owned subsidiary of Cincinnati Bancorp, Inc., a newly-formed Maryland corporation headquartered in Cincinnati, Ohio.

2. Cincinnati Bancorp, Inc.; a newly-formed Maryland corporation headquartered in Cincinnati, Ohio, to become a savings and loan holding company by acquiring 100 percent of the voting shares of Cincinnati Federal, Cincinnati, Ohio.

B. Federal Reserve Bank of Chicago (Colette A. Fried, Assistant Vice President) 230 South LaSalle Street, Chicago, Illinois 60690-1414:

1. FFBW, MHC, Brookfield, Wisconsin; a federally-chartered mutual savings and loan holding company that indirectly controls First Federal Bank of Wisconsin, Waukesha, Wisconsin, to complete a second step conversion through merger with and into FFBW MHC's federally-chartered stock savings and loan holding company subsidiary, FFBW, Inc., Brookfield, Wisconsin. Thereafter, as part of the transaction, FFBW, Inc., the federally-chartered stock savings and loan holding company, will merge with and into a newly formed Maryland corporation headquartered in Brookfield, Wisconsin, also named FFBW, Inc., and the Maryland corporation thereby will become a savings and loan holding company with respect to First Federal Bank of Wisconsin, pursuant to section 10(e) of the HOLA.

Board of Governors of the Federal Reserve System, September 17, 2019.
Yao-Chin Chao,
Assistant Secretary of the Board.

[FR Doc. 2019-20455 Filed 9-20-19; 8:45 am]

BILLING CODE P